DEPARTMENT OF THE INTERIOR

Bureau of Land Management

[LLORW00000.10200000.DF0000.LXSSH1080000.19X.HAG 19-0096]

Notice of Public Meetings for the San Juan Islands National Monument Advisory Committee

AGENCY: Bureau of Land Management, Interior.

ACTION: Notice of public meeting.

SUMMARY: In accordance with the Federal Land Policy and Management Act and the Federal Advisory Committee Act of 1972, the U.S. Department of the Interior, Bureau of Land Management's (BLM), San Juan Islands National Monument Advisory Committee (MAC) will meet as indicated below:

DATES: The MAC will hold a public meeting on Tuesday, Sept. 24, 2019. This meeting will run from 10 a.m. to 3:30 p.m. The public comment period is scheduled for 2 p.m.

ADDRESSES: The meeting will be held at the Lopez Community Center for the Arts, 204 Village Rd, Lopez Island, WA 98261. The public may send written comments to the MAC at BLM Spokane District, Attn. MAC, 1103 N Fancher, Spokane Valley, WA 99212.

FOR FURTHER INFORMATION CONTACT: Jeff Clark, Spokane District Public Affairs Officer, 1103 N Fancher, Spokane Valley, WA 99212, (509) 536-1297, or jeffclark@blm.gov. Persons who use a telecommunications device for the deaf (TDD) may call the Federal Relay Service at 1(800) 877-8339 to contact the above individual during normal business hours. This service is available 24 hours a day, 7 days a week, to leave a message or question with the above individual. You will receive a reply during normal business hours.

SUPPLEMENTARY INFORMATION: The San Juan Islands MAC is comprised of 12 members representing a wide array of interests, including recreation, tribal interests, education, environmental organizations, and landowners. The MAC advises the Secretary of the Interior with respect to the preparation and implementation of the San Juan Islands National Monument Resource Management Plan.

The meeting will begin at 10:00 a.m. with a welcome to the new MAC members. After introductions, the members will spend time reviewing the Proposed Resource Management Plan and Environmental Impact Statement and clarifying items from the BLM. The next agenda topic will be a discussion regarding opportunities for the MAC to support implementation of the management plan once the record of decision is signed. A roundtable discussion on local landscape status over the last two years will follow. The public comment period will be held at 2 p.m. The MAC will adjourn no later than 3:30 p.m. All advisory council meetings are open to the public.

Public Disclosure of Comments: Before including your address, phone number, email address, or other personal identifying information in your comment, you should be aware that your entire comment—including your personal identifying information—may be made publicly available at any time. While you can ask us in your comment to withhold your personal identifying information from public review, we cannot guarantee that we will be able to do so.

Persons wishing to make comments during the public comment period should register in person with the BLM by 1 p.m. on the meeting day, at the meeting location. Depending on the number of persons wishing to comment, the length of comments may be limited.

The public may send written comments to the MAC as described in the ADDRESSES section of this notice. The BLM appreciates all comments.

Authority: 43 CFR 1784.4-1.

Linda Clark,
Spokane District Manager.

[FR Doc. 2019-16910 Filed 8-6-19; 8:45 am]

BILLING CODE 4310-33-P